DEPARTMENT OF THE INTERIOR

Office of the Secretary

[Docket No. ONRR-2012-0003; DS63600000 DR2PS0000.PX8000 134D0102R2]

Notice of Request for Nominees for the U.S. Extractive Industries Transparency Initiative (USEITI) Advisory Committee

AGENCY: Policy, Management and Budget, Interior.

ACTION: Notice of request for nominees.

SUMMARY: The U.S. Department of the Interior (Interior) is seeking nominations for individuals to be considered as Committee members and/or alternates to serve on the U.S. Extractive Industries Transparency Initiative (USEITI) Advisory Committee. This notice solicits nominees who can represent stakeholder constituencies from all three sectors: Government, Civil Society, and Industry, so that the Department can fill current and pending vacancies on the Committee and create a roster of eligible, qualified candidates to facilitate the appointment process should future vacancies occur. Nominations should include a resume providing an adequate description of the nominee's qualifications, including information that would enable the Department of the Interior to make an informed decision regarding meeting the membership requirements of the Committee and permit the Department of the Interior to contact a potential member.

Parties are strongly encouraged to contact their sector co-chairs and to work with and within stakeholder sectors (including industry, civil society, and government sectors as defined by the EITI process) to jointly consider and submit nominations that, overall, reflect the diversity and breadth of their sector. Nominees are strongly encouraged to include supporting letters from constituents, trade associations, alliances, and/or other organizations that indicate the support by a meaningful constituency for the nominee.

DATES: Submit nominations for the Committee to the Department of the Interior by September 30, 2013.

ADDRESSES: You may submit nominations for the Committee by any of the following methods.

• Mail or hand-carry nominations to Ms. Rosita Compton Christian; Department of the Interior; 1849 C Street NW., MS-4211, Room 4212, Washington, DC 20240

• Email nominations to USEITI@ios.doi.gov.

FOR FURTHER INFORMATION CONTACT: Rosita Compton Christian USEITI Secretariat; Department of the Interior; 1849 C Street NW., MS-4211, Room 4212, Washington, DC 20240. You may also contact the USEITI Secretariat via email at useiti@ios.doi.gov, by phone at 202-208-0272 or by fax at (202) 513-0682

SUPPLEMENTARY INFORMATION: The U.S. Department of the Interior (Interior) established the U.S. Extractive Industries Transparency Initiative (USEITI) Advisory Committee (Committee) on July 26, 2012. The Committee serves as the initial USEITI Multi-Stakeholder Group and provides advice to the Secretary of the Interior (Secretary) on the design and implementation of the initiative.

The Committee was established in accordance with the provisions of the Federal Advisory Committee Act (FACA), as amended (5 U.S.C. App. 2), and with the concurrence of the General Services Administration.

The Committee:

• Serves as the initial Multi-Stakeholder Group (MSG) to oversee the U.S. implementation of the Extractive Industries Transparency Initiative (EITI), a global standard for governments to publicly disclose revenues received from oil, gas, and mining assets belonging to the government, with parallel public disclosure by companies of payments to the government (e.g. royalties, rents, bonuses, taxes, or other payments).

• Develops and recommends to the Secretary a candidacy application with a fully-costed work plan, containing measurable targets and a timetable for implementation, and incorporating an assessement of capacity contraints. This plan shall be developed in consultation with key EITI stakeholders and published upon completion.

• Provides opportunities for collaboration and consultation among stakeholders.

• Advises the Secretary and posts for consideration by other stakeholders proposals for conducting long-term oversight and other activities necessary to achieve EITI candidate and compliant status.

Members of the Committee will include individuals representing each of the following stakeholder sectors:

1. Industry, including non-Federal representatives from the extractive industry, including oil, gas, and mining companies and industry-related trade associations.

2. Civil society, including organizations with an interest in extractive industries, transparency, and government oversight; members of the public; and public and/or private investors.

3. Government, including Federal, State, local, and Tribal governments.

In addition to honoring the EITI principle of self-selection within stakeholder sectors above, the following criteria will be considered in making final selections:

(1) Understanding of and commitment to the EITI process

(2) Ability to collaborate and operate in a multi-stakeholder setting

(3) Access to and support from a relevant stakeholder constituency and authority to make decisions on its behalf

(4) Basic understanding of the extractive industry and/or revenue collection, or willingness to be educated on such matters

(5) Ability to represent U.S. based constituents, organizations, and institutions or companies with significant operations in the U.S.

No individual who is currently registered as a Federal lobbyist is eligible to serve as a member of the Committee.

The Committee will meet quarterly or at the request of the Designated Federal Officer. Non-Federal members of the Committee will serve without compensation. However, we may pay the travel and per diem expenses of Committee members, if appropriate, under the Federal Travel Regulations.

To learn more about USEITI, please visit the official Web site at www.doi.gov/eiti.

Dated: August 14, 2013.
Rhea Suh,
Assistant Secretary—Policy, Management and Budget, Department of the Interior.

[FR Doc. 2013-20177 Filed 8-16-13; 8:45 am]

BILLING CODE 4310-T2-P